FEDERAL RESERVE SYSTEM

12 CFR Part 202

[Regulation B; Docket No. R-1295]

Equal Credit Opportunity

AGENCY: Board of Governors of the Federal Reserve System.

ACTION: Final Rule; technical amendment.

SUMMARY: The Board is publishing amendments to Regulation B (Equal Credit Opportunity Act) to update the address where questions should be directed concerning creditors for which the Federal Reserve System administers compliance with the regulation.

DATES: Effective Date: June 13, 2008.

FOR FURTHER INFORMATION CONTACT: Yvonne Cooper, Manager, Consumer Complaints, Division of Consumer and Community Affairs, Board of Governors of the Federal Reserve System, at (202) 452-3946. For the users of Telecommunications Device for the Deaf (“TDD”) only, contact (202) 263-4869.

SUPPLEMENTARY INFORMATION: The Equal Credit Opportunity Act (ECOA), 15 U.S.C. 1691-1691f, makes it unlawful for a creditor to discriminate against an applicant in any aspect of a credit transaction on the basis of the applicant's national origin, marital status, religion, sex, color, race, age (provided the applicant has the capacity to contract), receipt of public assistance benefits, or the good faith exercise of a right under the Consumer Credit Protection Act, 15 U.S.C. 1601 et seq. The ECOA is implemented by the Board's Regulation B.

In addition to the general prohibition against discrimination, Regulation B contains specific rules concerning the taking and evaluation of credit applications, including procedures and notices for credit denials and other adverse actions. Under section 202.9 of Regulation B, notification given to an applicant when adverse action is taken must contain the name and address of the federal agency that administers compliance with respect to the creditor. Appendix A of Regulation B contains the names and addresses of the enforcement agencies where questions concerning a particular creditor shall be directed.

The Board recently established a centralized Federal Reserve Consumer Help Center (“Help Center”) for receiving inquiries about creditors for which the Board enforces Regulation B. In September 2007, the Board revised the name and address in Appendix A to reflect the Help Center's address. 72 FR 55020 (Sept. 28, 2007). Although this change was effective October 29, 2007, creditors have until October 1, 2008 to include the new name and address on their adverse action notices. The amendment being made today does not affect that requirement.

The Board has also established centralized telephone numbers that consumers can use to contact the Help Center and inquire about creditors for which the Board enforces Regulation B. In the September 2007 Federal Register notice, the Board included these telephone numbers in Appendix A. As a result, the Board has received questions about whether the telephone numbers must be included in creditors' adverse action notices. Section 202.9 of Regulation B does not require creditors to include telephone, facsimile, or TDD numbers in their adverse action notices. Accordingly, to clarify the matter, the Board is amending Appendix A of Regulation B to eliminate the reference to the telephone numbers. The mandatory compliance date remains October 1, 2008.

List of Subjects in 12 CFR Part 202

Aged, Banks, banking, Civil rights, Consumer protections, Credit, Discrimination, Federal Reserve System, Marital status discrimination, Penalties, Religious discrimination, Sex discrimination.

Authority and Issuance

For the reasons set forth in the preamble, the Board amends 12 CFR part 202 to read as follows:

PART 202—EQUAL CREDIT OPPORTUNITY ACT (REGULATION B)

1. The authority citation for part 202 continues to read as follows:

Authority: Section 15 U.S.C. 1691-1691f.

2. Appendix A to part 202 is amended by revising the third paragraph to read as follows:

Appendix A to Part 202—Federal Enforcement Agencies

* * * * *

State member banks, branches and agencies of foreign banks (other than federal branches, federal agencies, and insured state branches of foreign banks), commercial lending companies owned or controlled by foreign banks, and organizations operating under section 25 or 25A of the Federal Reserve Act: Federal Reserve Consumer Help Center, P.O. Box 1200, Minneapolis, MN 55480.

* * * * *

By order of the Board of Governors of the Federal Reserve System, acting through the Secretary of the Board under delegated authority, June 9, 2008.
Jennifer J. Johnson,
Secretary of the Board.

[FR Doc. E8-13222 Filed 6-12-08; 8:45 am]

BILLING CODE 6210-01-P